DEPARTMENT OF DEFENSE

Office of the Secretary

[Docket ID: DoD-2013-OS-0039]

Privacy Act of 1974; System of Records

AGENCY: Defense Intelligence Agency, DoD.

ACTION: Notice to add a System of Records.

SUMMARY: The Defense Intelligence Agency is proposing the add a system to its existing inventory of records systems subject to the Privacy Act of 1974, as amended. The Defense Intelligence Agency proposes to add a new system of records notice, LDIA 13-0001, Conflict Management Programs, to its existing inventory of records systems subject to the Privacy Act of 1974, as amended. This system manages the Equal Opportunity (EO) Program, Alternate Dispute Resolution Program (ADR), Employee Grievance System, and Reasonable Accommodation (RA) cases.

DATES: This proposed action will be effective on December 23, 2013 unless comments are received which result in a contrary determination. Comments will be accepted on or before December 20, 2013.

ADDRESSES: You may submit comments, identified by docket number and title, by any of the following methods:

• Federal Rulemaking Portal: http://www.regulations.gov. Follow the instructions for submitting comments.

• Mail: Federal Docket Management System Office, 4800 Mark Center Drive; East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 MacDill Blvd., Washington, DC 20340-0001 or by phone at (202) 231-1193.

SUPPLEMENTARY INFORMATION: The Defense Intelligence Agency system of records notices subject to the Privacy Act of 1974 (5 U.S.C. 552a), as amended, have been published in the Federal Register and are available from the address in FOR FURTHER INFORMATION CONTACT.

The proposed system report, as required by 5 U.S.C. 552a of the Privacy Act of 1974, as amended, was submitted on February 21, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 12, 2013.
Aaron Siegel,
Alternate OSD Federal Register Liaison Officer, Department of Defense.

LDIA 13-0001

System name:

Conflict Management Programs

System location:

Defense Intelligence Agency (DIA), 200 MacDill Blvd., Washington, DC 20340-0001.

Categories of individuals covered by the system:

DIA civilians, military assignees, and contractors.

Categories of records in the system:

Individuals name, Social Security Number (SSN), and associated case numbers. Files contain all records and documents relative to each program to include statements of witnesses, reports of interviews and hearings and examiner's findings, recommendations, decisions and related correspondence or exhibits.

Authority for maintenance of the system:

Public Law 107-174, Notification and Federal Employee Antidiscrimination and Retaliation (No FEAR) Act; PL 104-320, The Administrative Dispute Resolution Act (ADRA); 29 CFR 1614, Federal Sector Equal Employment Opportunity; 5 U.S.C. Part I, Chapter 5, Subchapter IV, Alternative Means of Dispute Resolution in Administrative Process; Title 1 and Title V of the Americans with Disabilities Act (ADA); E.O. 12067, Federal Equal Opportunity Programs; E.O. 12988, Civil Justice Reform; Intelligence Community Directive 106, Intelligence Community Equal Employment; DoDD 1440.1, The DoD Civilian Equal Employment Opportunity Program; DoDD 1350.2, The Department of Defense Military Equal Opportunity Program; DoDD 5145.5, Alternative Dispute Resolution Act (ADR); DIA Instruction 5145.001, Conflict Management Program; DIA Manual 60-1: Administrative Investigations; DIA Directive 1020.000, DIA Equal Employment Opportunity Diversity Program; DIA Instruction 1426.002, Employee Grievance System and E.O. 9397 (SSN), as amended.

Purpose(s):

To manage the Equal Opportunity (EO) Program, Alternate Dispute Resolution Program (ADR), Employee Grievance System, and Reasonable Accommodation (RA) cases.

Routine uses of records maintained in the system, including categories of users and the purposes of such uses:

In addition to those disclosures generally permitted under 5 U.S.C. 552a(b) of the Privacy Act of 1974, as amended, these records contained herein may specifically be disclosed outside the DoD as a routine use pursuant to 5 U.S.C 552(b)(3) as follows:

The DoD Blanket Routine Uses set forth at the beginning of the DIAs compilation of systems of records notices may apply to this system.

Policies and practices for storing, retrieving, accessing, retaining, and disposing of records in the system:

Storage:

Paper and electronic storage media.

Retrievability:

By last name, SSN and/or case file number.

Safeguards:

Records are stored in office buildings protected by guards, controlled screenings, and use of visitor registers, electronic access, and/or locks. Access to records is limited to individuals who are properly screened, and cleared on a need-to-know basis in the performance of their duties. Passwords and User IDs are used to control access to the system data, and procedures are in place to deter and detect browsing and unauthorized access. Physical and electronic access is limited to persons responsible for servicing and authorized to use the system.

Retention and disposal:

Equal Opportunity Records, Temporary: Destroy 4 years after resolution of case.

Alternate Dispute Resolution Records, Temporary: Destroy 3 years after settlement is implemented or case is discontinued.

Reasonable Accommodation Records, Temporary: Destroy 3 years after employee separation from the Agency, or all appeals have been concluded whichever is later.

Employee Grievance Records, Temporary: Destroy four years after the grievance is closed.

Electronic records are deleted from the system; paper records are destroyed by shredding, burning or pulping.

System manager(s) and address:

Directorate for Human Capital, and the Equal Opportunity and Diversity Office, Defense Intelligence Agency, 200 MacDill Blvd., Washington, DC 20340-0001.

Notification procedure:

Individuals seeking to determine whether information about themselves is contained in this system of records should address written inquiries to the DIA Freedom of Information Act Office (DAN-1A), Defense Intelligence Agency, 200 MacDill Blvd., Washington, DC 20340-0001.

Request should contain the individual's full name, current address, and telephone number.

Record access procedures:

Individuals seeking access to information about themselves contained in this system of records should address written inquiries to the DIA Freedom of Information Act Office, Defense Intelligence Agency (DAN-1A), 200 MacDill Blvd., Washington, DC 20340-0001.

Request should contain the individual's full name, current address, and telephone number.

Contesting record procedures:

DIAs rules for accessing records, for contesting contents and appealing initial agency determinations are published in DIA Instruction 5400.001 Defense Intelligence Agency Privacy Program; or may be obtained from the system manager.

Record source categories:

Agency officials, individuals, and witnesses.

Exemptions claimed for the system:

Investigatory material compiled for law enforcement purposes, other than material within the scope of subsection 5 U.S.C. 552a(j)(2), may be exempt pursuant to 5 U.S.C. 552a(k)(2). However, if an individual is denied any right, privilege, or benefit for which he would otherwise be entitled by Federal law or which he would otherwise be eligible, as a result of maintenance of the information, the individual will be provided access to the information except to the extent that disclosure would reveal the identity of a confidential source. This exemption provides limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated in accordance with the requirements of 5 U.S.C. 553(b)(1), (2), and (3), (c) and (e) and published in 32 CFR part 319. For more information, contact the system manager.

[FR Doc. 2013-27512 Filed 11-19-13; 8:45 am]

BILLING CODE 5001-06-P